DEPARTMENT OF ENERGY

Federal Energy Regulatory Commission

[Docket No. EL01-111-000]

California Independent System Operator; Notice of Change in Docketing

August 30, 2001.

Take notice that on June 25, 2001, July 11, 2001, August 10, 2001, the California Independent System Operator (CAISO) filed market monitoring reports in Docket Nos. EL00-95-000, EL00-98-000 and RT01-85-000, as required by the Commission's April 26, 2001 Order.¹ A new docket number has been established for these filings, and the CAISO shall hereafter file all market monitoring reports under Docket Number EL01-111-000. Previous filings, identified above, will be re-designated in the new docket.

¹ 95 FERC ¶ 61,115 (2001).

David P. Boergers,
Secretary

[FR Doc. 01-22335 Filed 9-5-01; 8:45 am]

BILLING CODE 6717-01-P